DEPARTMENT OF JUSTICE

Drug Enforcement Administration

[Docket No. 03-41]

Alton E. Ingram, Jr., M.D.; Revocation of Registration

On June 25, 2003, the Deputy Assistant Administrator, Office of Diversion Control, Drug Enforcement Administration (DEA), issued an Order to Show Cause to Alton E. Ingram, Jr., M.D. (Respondent) of Pensacola, Florida, notifying him of an opportunity to show cause as to why DEA should not revoke his DEA Certificate of Registration, BI3210642, as a practitioner, pursuant to 21 U.S.C. 824(a)(3) and deny any pending applications for renewal of that registration pursuant to 21 U.S.C. 832(f). As a basis for revocation, the Order to Show Cause alleged that Respondent's license to practice medicine in Florida had been indefinitely suspended and accordingly, he was not authorized to handle controlled substances in Florida, the State in which he is registered.

On August 6, 2003, Respondent, acting pro se, timely requested a hearing in this matter. On August 22, 2003, Administrative Law Judge Gail A. Randall (Judge Randall) issued the Government, as well as Respondent, an Order for Prehearing Statements.

In lieu of filing a prehearing statement, the Government filed Government's Request for Stay of Proceedings and Motion for Summary Disposition. The Government argued Respondent was without authorization to handle controlled substances in the State of Florida and, as a result, further proceedings in the matter were not required. Attached to the Government's motion was a copy of the State of Florida, Department of Health's Order of Emergency Suspension of License, indefinitely suspending Respondent's license to practice medicine in Florida, effective as of September 11, 2002.

On September 3, 2003, Judge Randall issued an Order and Notice providing Respondent an opportunity to respond to the Government's motion. Respondent filed a timely response, which included a concession that his authority to prescribe controlled substances in the State of Florida was then currently, albeit temporarily, suspended. Based on other issues raised in that response, Judge Randall ordered the Government to file an amendment to its Motion for Summary Disposition, which it did on October 10, 2003. Subsequently, the Government filed its October 14, 2003, Motion to Rescind Amended Motion for Summary Disposition (first amended motion), requesting that its accompanying Second Amended Motion for Summary Disposition be considered in lieu of the first amended motion. Judge Randall denied the motion to rescind the first amended motion as it was then a part of the administrative record. However, she accepted the Second Amended Motion for Summary Disposition for consideration on the merits.

On November 7, 2003, Judge Randall issued her Opinion and Recommended Decision of the Administrative Law Judge (Opinion and Recommended Decision). As part of her recommended ruling, Judge Randall granted the Government's Motion for Summary Disposition, finding Respondent lacked authorization to handle controlled substances in Florida, the jurisdiction in which he is registered. Judge Randall recommended that Respondent's DEA registration be revoked and any pending applications for renewal or modification of that registration be denied. No exceptions were filed by either party to Judge Randall's Opinion and Recommended Decision and on December 15, 2003, the record of these proceedings was transmitted to the Office of the DEA Deputy Administrator.

The Deputy Administrator has considered the record in its entirety and pursuant to 21 CFR 1316.67, hereby issues her final order based upon findings of fact and conclusions of law as hereinafter set forth. The Deputy Administrator adopts, in full, the Opinion and Recommended Decision of the Administrative Law Judge.

The Deputy Administrator finds that Respondent holds DEA Certificate of Registration, BI3210642, which expired on November 30, 2003, after initiation of these proceedings. The Deputy Administrator further finds that, effective as of September 11, 2002, the State of Florida, Department of Health issued its Order of Emergency Suspension of License, suspending respondent's authority to practice as a physician in the State of Florida. There is no evidence in the record indicating that this suspension has been stayed or that Respondent's license has been reinstated. As a result, he is not currently authorized to prescribe, dispense, administer, or otherwise handle controlled substances in the State of Florida, his place of DEA registration.

DEA does not have statutory authority under the Controlled Substances Act to issue or maintain a registration if the applicant or registrant is without State authority to handle controlled substances in the State in which he conducts business. See 21 U.S.C. 802(21), 823(f) and 824(a)(3). This prerequisite has been consistently upheld. See Karen Joe Smiley, M.D., 68 FR 48944 (2003); Dominick A. Ricci, M.D., 58 FR 51104 (1993); Bobby Watts, M.D., 53 FR 11919 (1988). Revocation is also appropriate when a State license has been suspended, but with a possibility of future reactivation. See Anne Lazar Thorn, M.D., 62 FR 12,847 (1997).

Here, it is clear Respondent currently lacks authority to handle controlled substances in Florida, the State in which he is registered with DEA as a practitioner. Therefore, DEA does not have authority to maintain Respondent's DEA Certificate of Registration for his Florida practice or to grant any pending applications for renewal or modification of that registration.

Accordingly, the Deputy Administrator of the Drug Enforcement Administration, pursuant to the authority vested in her by 21 U.S.C. 823 and 824 and 28 CFR 0.100(b) and 0.104, hereby orders that DEA Certificate of Registration, BI3210642, issued to Alton E. Ingram, Jr., M.D., be, and it hereby is, revoked. The Deputy Administrator further orders that any pending applications for renewal or modification of such registration be, and they hereby are, denied. This order is effective May 26, 2004.

Dated: April 7, 2004.
Michele M. Leonhart,
Deputy Administrator.

[FR Doc. 04-9331 Filed 4-23-04; 8:45 am]

BILLING CODE 4410-09-M